DEPARTMENT OF ENERGY

Federal Energy Regulatory Commission

Combined Notice of Filings #1

Take notice that the Commission received the following electric rate filings:

Docket Numbers: ER16-435-003.

Applicants: Wabash Valley Power Association, Inc.

Description: Compliance filing of Wabash Valley Power Association, Inc.

Filed Date: 9/6/19.

Accession Number: 20190906-5051.

Comments Due: 5 p.m. ET 9/27/19.

Docket Numbers: ER16-444-003.

Applicants: Wabash Valley Power Association, Inc.

Description: Compliance filing of Wabash Valley Power Association, Inc.

Filed Date: 9/6/19.

Accession Number: 20190906-5053.

Comments Due: 5 p.m. ET 9/27/19.

Docket Numbers: ER19-2383-001.

Applicants: AEP Texas Inc.

Description: Tariff Amendment: SA772 AEPTX-Karankawa Wind Interconnection Agr 1st Amend & Restat—Amendment to be effective 6/20/2019.

Filed Date: 9/6/19.

Accession Number: 20190906-5004.

Comments Due: 5 p.m. ET 9/27/19.

Docket Numbers: ER19-2385-001.

Applicants: AEP Texas Inc.

Description: Tariff Amendment: SA776 AEPTX-Karankawa Wind Interconnection Agr 1st Amend & Restat—Amendment to be effective 6/27/2019.

Filed Date: 9/6/19.

Accession Number: 20190906-5011.

Comments Due: 5 p.m. ET 9/27/19.

Docket Numbers: ER19-2440-000; ER19-2441-001; ER19-2442-000; ER19-2443-000; ER19-2444-001; ER19-2470-000; ER19-2474-000.

Applicants: Tri-State Generation and Transmission Association, Inc.

Description: Notice of Initial New Member (Mieco, Inc.) and Request for Partial Waiver of Tri-State Generation and Transmission Association, Inc.

Filed Date: 9/3/19.

Accession Number: 20190903-5196.

Comments Due: 5 p.m. ET 9/24/19.

Docket Numbers: ER19-2757-000.

Applicants: California Independent System Operator Corporation.

Description: Compliance filing: 2019-09-05 Order No. 831 Compliance to be effective 12/31/9998.

Filed Date: 9/5/19.

Accession Number: 20190905-5107.

Comments Due: 5 p.m. ET 9/26/19.

Docket Numbers: ER19-2758-000.

Applicants: ALLETE, Inc., Midcontinent Independent System Operator, Inc.

Description: § 205(d) Rate Filing: 2019-09-06_SA 3345 MP-GRE T-L (Swatara) to be effective 8/8/2019.

Filed Date: 9/6/19.

Accession Number: 20190906-5002.

Comments Due: 5 p.m. ET 9/27/19.

Docket Numbers: ER19-2759-000.

Applicants: Societe Generale Energy LLC.

Description: Notice of Cancellation of Market-Based Rate Tariff of Societe Generale Energy LLC.

Filed Date: 9/5/19.

Accession Number: 20190905-5113.

Comments Due: 5 p.m. ET 9/26/19.

Docket Numbers: ER19-2760-000.

Applicants: Puget Sound Energy, Inc.

Description: § 205(d) Rate Filing: Attachment K Northern Grid Filing to be effective 1/1/2020.

Filed Date: 9/6/19.

Accession Number: 20190906-5035.

Comments Due: 5 p.m. ET 9/27/19.

Docket Numbers: ER19-2761-000.

Applicants: Cambria CoGen Company.

Description: Tariff Cancellation: Notice of Termination of Reactive Supply Tariff to be effective 9/17/2019.

Filed Date: 9/6/19.

Accession Number: 20190906-5058.

Comments Due: 5 p.m. ET 9/27/19.

Docket Numbers: ER19-2762-000.

Applicants: NorthWestern Corporation.

Description: § 205(d) Rate Filing: NorthernGrid Attachment K to be effective 1/1/2020.

Filed Date: 9/6/19.

Accession Number: 20190906-5069.

Comments Due: 5 p.m. ET 9/27/19.

Docket Numbers: ER19-2763-000.

Applicants: PacifiCorp.

Description: § 205(d) Rate Filing: OATT Revised Attachment K—NorthernGrid Transm Planning Process to be effective 1/1/2020.

Filed Date: 9/6/19.

Accession Number: 20190906-5070.

Comments Due: 5 p.m. ET 9/27/19.

Docket Numbers: ER19-2764-000.

Applicants: Avista Corporation.

Description: § 205(d) Rate Filing: Avista Corp OATT Attachment K Revisions to be effective 1/1/2020.

Filed Date: 9/6/19.

Accession Number: 20190906-5076.

Comments Due: 5 p.m. ET 9/27/19.

Docket Numbers: ER19-2765-000.

Applicants: MATL LLP.

Description: § 205(d) Rate Filing: NorthernGrid Attachment K to be effective 1/1/2020.

Filed Date: 9/6/19.

Accession Number: 20190906-5094.

Comments Due: 5 p.m. ET 9/27/19.

Docket Numbers: ER19-2766-000.

Applicants: Idaho Power Company.

Description: § 205(d) Rate Filing: Attachment K—NorthernGrid to be effective 1/1/2020.

Filed Date: 9/6/19.

Accession Number: 20190906-5121.

Comments Due: 5 p.m. ET 9/27/19.

Take notice that the Commission received the following electric securities filings:

Docket Numbers: ES19-51-000.

Applicants: Louisville Gas & Electric Company.

Description: Application under Section 204 of the Federal Power Act for Authorization to Issue Securities of Louisville Gas and Electric Company.

Filed Date: 9/6/19.

Accession Number: 20190906-5024.

Comments Due: 5 p.m. ET 9/27/19.

Docket Numbers: ES19-52-000.

Applicants: Kentucky Utilities Company.

Description: Application under Section 204 of the Federal Power Act for Authorization to Issue Securities of Kentucky Utilities Company.

Filed Date: 9/6/19.

Accession Number: 20190906-5025.

Comments Due: 5 p.m. ET 9/27/19.

Take notice that the Commission received the following PURPA 210(m)(3) filings:

Docket Numbers: QM19-4-000.

Applicants: Southwestern Public Service Company.

Description: Application to Terminate the Requirement to Enter Into New Contracts or Obligations with Qualifying Facilities of Southwestern Public Service Company.

Filed Date: 9/5/19.

Accession Number: 20190905-5117.

Comments Due: 5 p.m. ET 10/3/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 6, 2019.
Nathaniel J. Davis, Sr.,
Deputy Secretary.

[FR Doc. 2019-19739 Filed 9-11-19; 8:45 am]

BILLING CODE 6717-01-P